DEPARTMENT OF THE INTERIOR

Bureau of Land Management

[LLWYD10000.L14300000.EU0000; WYW-161972; WYW-176935; WYW-163855]

Notice of Realty Action: Termination of Recreation and Public Purposes Act Classifications and Opening of Lands; Wyoming

AGENCY: Bureau of Land Management, Interior.

ACTION: Notice.

SUMMARY: This notice terminates the existing classifications in their entirety or in part for public lands at three locations that were classified as suitable for lease/disposal under the Recreation and Public Purposes (R&PP) Act. Additionally, this notice opens these public lands to the operation of the public land laws generally, including the 1872 Mining Law. The classification termination and opening order will affect a total of 333.17 acres of public lands within Sublette County, Wyoming.

DATES: The effective date is August 24, 2012.

FOR FURTHER INFORMATION CONTACT: Tracy Hoover, Realty Specialist, BLM Pinedale Field Office, 1625 West Pine Street, P.O. Box 768, Pinedale, Wyoming 82941, 307-367-5342.

SUPPLEMENTARY INFORMATION: On October 26, 1999, the Bureau of Land Management (BLM) published a notice in the Federal Register announcing that it had classified 40 acres of public land under its jurisdiction as suitable for lease pursuant to the R&PP Act (44 Stat. 741), as amended, and 43 CFR 2741.5 (64 FR 57649). Upon classification, the BLM leased the land to Sublette County for the construction, operation, and maintenance of a recreation site under BLM Serial Number WYW-82504. This lease expired at Sublette County's request on June 20, 2011.

Pursuant to 43 CFR 2091.2-2 and 2461.5(c), and upon publication of this notice in the Federal Register, the BLM is terminating the classification in its entirety for the subject land, which is described as follows:

6th Principal Meridian

T. 34 N., R. 110 W.,

Sec. 24, NE¼NE¼.

The area described contains 40 acres in Sublette County.

In the Federal Register on August 23, 2006 (71 FR 49472), as corrected on October 13, 2006 (71 FR 60566), the BLM classified 283.17 acres of public land under its jurisdiction as suitable for lease pursuant to the R&PP Act (44 Stat. 741), as amended, and 43 CFR 2741.5. Upon classification, the BLM leased the land to Sublette County for the construction, operation, and maintenance of a public golf course under BLM Serial Number WYW-163849. On December 12, 2011, Sublette County requested the lease be terminated, and the BLM accepted the termination.

Pursuant to 43 CFR 2091.2-2 and 2461.5(c), and upon publication of this notice in the Federal Register, the BLM is terminating the classification in its entirety for the subject land, which is described as follows:

6th Principal Meridian

T. 33 N., R. 109 W.,

Sec. 5, lots 5 to 9, inclusive;

Sec. 6, lots 9 and 12.

The area described contains 283.17 acres in Sublette County.

In the Federal Register on August 23, 2006 (71 FR 49472), the BLM classified 40 acres of public land under its jurisdiction as suitable for lease/disposal pursuant to the R&PP Act (44 Stat. 741), as amended, and 43 CFR 2741.5. Upon classification, the BLM patented 30 of the 40 acres to Sublette County for the construction, operation, and maintenance of a county shop under BLM Serial Number WYW-163855.

Pursuant to 43 CFR 2091.2-2 and 2461.5(c), and upon publication of this notice in the Federal Register, the BLM is terminating the classification of the remaining 10 acres in its entirety for the subject land, which is described as follows:

6th Principal Meridian

T. 30 N., R. 111 W.,

Sec. 17, SE¼NE¼SE¼;

The area contains 10 acres in Sublette County.

The three areas described aggregate 333.17 acres in Sublette County.

At 8:30 a.m. on September 24, 2012, the 333.17 acres of public lands described above will be opened to operation of public land laws generally, subject to valid existing rights, the provisions of existing withdrawals, and the requirements of applicable law. All valid existing applications received at or prior to 8:30 a.m. on September 24, 2012, will be considered as simultaneously filed at that time. Those received thereafter will be considered in the order of filing.

At 8:30 a.m. on September 24, 2012, the 333.17 acres of public lands described above will be opened to location and entry under the United States mining laws. Appropriation under the general mining laws prior to the date and time of restoration is unauthorized. Any such attempted appropriation, including attempted adverse possession under 30 U.S.C. Sec. 38, shall vest no rights against the United States. Acts required to establish a location and to initiate a right of possession are governed by State law where not in conflict with Federal law. The BLM will not intervene in disputes between rival locators over possessory rights since Congress has provided for such determination in local courts.

Authority: 43 CFR 2461.5(c)(2); 43 CFR 2091.2-2.

Donald A. Simpson,
State Director.

[FR Doc. 2012-20895 Filed 8-23-12; 8:45 am]

BILLING CODE 4310-22-P